DEPARTMENT OF ENERGY

Federal Energy Regulatory Commission

[Docket No. CP03-49-000]

National Fuel Gas Supply Corporation; Notice of Application

February 11, 2003.

Take notice that on February 3, 2003, National Fuel Gas Supply Corporation (National Fuel), 10 Lafayette Square, Buffalo, New York 14203, filed an application in Docket No. CP03-49-000 pursuant to Section 7(b) of the Natural Gas Act and part 157 of the Commission's Regulations, for permission and approval to abandon certain minor underground natural gas storage facilities in its Summit Storage Field (Summit), in Erie County, Pennsylvania, all as more fully set forth in the application which is on file with the Commission and open to public inspection. This filing may also be viewed on the Commission's Web site at http://www.ferc.gov using the “FERRIS” link, select “Docket #” and follow the instructions. For assistance, please contact FERC Online Support at FERCOnlineSupport@ferc.gov or toll-free at (866) 208-3676, or for TTY, contact (202) 502-8659.

National Fuel proposes to abandon certain facilities in the Summit Storage Field. National Fuel proposes to abandon Wells 1511-P, 1518-P and 1528-P and to abandon their associated 4-inch well lines. National Fuel proposes to abandon the facilities, because the wells have deteriorated well casings and contribute very little to Summit's injection and withdrawal capability. National Fuel further states that the deteriorated well casings would require expensive reconditioning or abandonment. Since the wells contribute very little to Summit's injection and withdrawal capability and are in close proximity to residences, National Fuel does not recommend reconditioning of the wells. The application indicates that there would be no abandonment or decrease in service to any of National Fuel's existing customers as a result of the proposed abandonment. National Fuel states that it would cost approximately $135,360 to abandon its facilities in this proposal.

Any questions regarding Natural Fuel's application should be directed to David W. Reitz, Deputy General Counsel, National Fuel Gas Supply Corporation, 10 Lafayette Square, Buffalo, New York 14203, at (716) 857-7949.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments, protests and interventions may be filed electronically via the Internet in lieu of paper; see 18 CFR 385.2001(a)(1)(iii) and the instructions on the Commission's Web site under the “e-Filing” link. The Commission strongly encourages electronic filings.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

If the Commission decides to set the application for a formal hearing before an Administrative Law Judge, the Commission will issue another notice describing that process. At the end of the Commission's review process, a final Commission order approving or denying a certificate will be issued.

Comment Date: March 4, 2003.

Magalie R. Salas,
Secretary.

[FR Doc. 03-3793 Filed 2-14-03; 8:45 am]

BILLING CODE 6717-01-P